DEPARTMENT OF HEALTH AND HUMAN SERVICES

Agency for Toxic Substances and Disease Registry

[ATSDR-200]

Development of Set 18 Toxicological Profiles for Public Comment

AGENCY: Agency for Toxic Substances and Disease Registry (ATSDR), Department of Health and Human Services (HHS).

ACTION: Notice of the selection of substances for profile development.

SUMMARY: This notice announces the 18th set of toxicological profiles prepared by ATSDR, comprising the development of one new and five updated priority hazardous substances.

FOR FURTHER INFORMATION CONTACT: Ms. Jessilynn B. Taylor, Agency for Toxic Substances and Disease Registry (ATSDR), Division of Toxicology, 1600 Clifton Road, NE., Mailstop F-32, Atlanta, Georgia 30333, telephone (770) 488-3313.

SUPPLEMENTARY INFORMATION: The Superfund Amendments and Reauthorization Act (SARA) (Pub. L. 99-499) amends the Comprehensive Environmental Response, Compensation, and Liability Act (CERCLA or Superfund) (42 U.S.C. 9601 et seq.) by establishing certain requirements for ATSDR and the U.S. Environmental Protection Agency (EPA) concerning hazardous substances that are most commonly found at facilities on the CERCLA National Priorities List (NPL). Among these statutory requirements is a mandate for the Administrator of ATSDR to prepare toxicological profiles for each substance included on the priority lists of hazardous substances. ATSDR and EPA identified 275 hazardous substances that pose the most significant potential threat to human health. The availability of the revised list of the 275 priority substances was announced in the Federal Register on November 7, 2003 (68 FR 63098). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744); November 17, 1997 (62 FR 61332); October 21, 1999 (64 FR 56792); and October 25, 2001 (66 FR 54014).

Availability

This notice announces the 18th set of toxicological profiles prepared by ATSDR, comprising the development of one new and five updated toxicological profiles. The following toxicological profiles will be developed and available for a 90-day public comment period on or about October 17, 2004.

18th Set
Toxicological profile | CAS. No.
1. Vinyl Chloride (update) | 000075-01-4
2. Dichlorobenzenes (update)
1,2 Dichlorobenzene | 000095-50-1
1,3-Dichlorobenzene | 00541-73-1
1,4-Dichlorobenzene | 00106-46-7
3. 1,1,1-Trichloroethane (update) | 000071-55-6
4. Cyanide (update) | 000057-12-5
Hydrogen Cyanide | 000074-90-8
Sodium Cyanide | 000143-33-9
Potassium Cyanide | 000151-50-8
5. Hydrogen Sulfide (update) | 007783-065-4
6. 1,4-Dioxane | 000123-91-3

Dated: June 30, 2004.
Georgi Jones,
Director, Office of Policy, Planning, and Evaluation, National Center for Environmental Health/Agency for Toxic Substances and Disease Registry.

[FR Doc. 04-15567 Filed 7-8-04; 8:45 am]

BILLING CODE 4163-70-P